DEPARTMENT OF HEALTH AND HUMAN SERVICES

Centers for Disease Control and Prevention

National Center for Environmental Health/Agency for Toxic Substances and Disease Registry (NCEH/ATSDR); Notice of National Conversation on Public Health and Chemical Exposures Leadership Council Meeting

Time and Date: 9 a.m.—5 p.m. EDT, Tuesday, October 5, 2010.

Location: Omni Shoreham Hotel, 2500 Calvert Street NW., Washington, DC 20008.

Status: Open to the public, on a first come, first served basis, limited by the space available. An opportunity for the public to listen to the meeting by phone will be available. For information on observing the meeting in person or by phone, see “contact for additional information” below.

Purpose: This is the sixth meeting of the National Conversation on Public Health and Chemical Exposures Leadership Council, which is convened by RESOLVE, a non-profit independent facilitator. The National Conversation on Public Health and Chemical Exposures is a collaborative initiative supported by NCEH/ATSDR and through which many organizations and individuals are helping develop an action agenda for strengthening the nation's approach to protecting the public's health from harmful chemical exposures. The Leadership Council provides overall guidance to the National Conversation project and is responsible for issuing the final action agenda. For additional information on the National Conversation on Public Health and Chemical Exposures, visit this Web site: http://www.atsdr.cdc.gov/nationalconversation/.

Meeting Agenda: The purpose of the meeting is to discuss key themes and recommendations to feature in the draft action agenda, drawing on draft work group reports and the results of various stakeholder and public engagement activities.

Contact for additional information: If you would like to receive additional information on attending this meeting in person or listening by telephone, please contact: nationalconversation@cdc.gov or Ben Gerhardstein at 770-488-3646.

Dated: September 21, 2010.
Tanja Popovic,
Deputy Associate Director for Science, Centers for Disease Control and Prevention.

[FR Doc. 2010-24260 Filed 9-27-10; 8:45 am]

BILLING CODE 4163-18-P